SUSQUEHANNA RIVER BASIN COMMISSION

Public Hearing

AGENCY: Susquehanna River Basin Commission.

ACTION: Notice.

SUMMARY: The Susquehanna River Basin Commission will hold a public hearing on May 4, 2016, in Grantville, Pennsylvania. At this public hearing, the Commission will hear testimony on the projects listed in the SUPPLEMENTARY INFORMATION section of this notice. The Commission will also hear testimony on a proposed guidance for expiring project approvals and a proposed guidance for terminating review of a project application as well as proposals to amend its Regulatory Program Fee Schedule and the Comprehensive Plan for the Water Resources of the Susquehanna River Basin. Such projects and proposals are intended to be scheduled for Commission action at its next business meeting, tentatively scheduled for June 16, 2016, which will be noticed separately. The public should take note that this public hearing will be the only opportunity to offer oral comment to the Commission for the listed projects and proposals. The deadline for the submission of written comments is May 16, 2016.

DATES: The public hearing will convene on May 4, 2016, at 7:00 p.m. The public hearing will end at 9:00 p.m. or at the conclusion of public testimony, whichever is sooner. The deadline for the submission of written comments is May 16, 2016.

ADDRESSES: The public hearing will be conducted at the East Hanover Township Municipal Building, Main Hall, 8848 Jonestown Road, Grantville, PA 17028 (parking lot entry off of Manada Gap Road; see http://easthanovertwpdcpa.org/index.php/about-contact).

FOR FURTHER INFORMATION CONTACT: Jason Oyler, General Counsel, telephone: (717) 238-0423, ext. 1312; fax: (717) 238-2436.

Information concerning the applications for these projects is available at the SRBC Water Resource Portal at www.srbc.net/wrp. Additional supporting documents are available to inspect and copy in accordance with the Commission's Access to Records Policy at www.srbc.net/pubinfo/docs/2009-02_Access_to_Records_Policy_20140115.pdf.

SUPPLEMENTARY INFORMATION: The public hearing will cover a proposed guidance for expiring project approvals and a proposed guidance for terminating review of a project application as well as proposed amendments to its Regulatory Program Fee Schedule and the Comprehensive Plan for the Water Resources of the Susquehanna River Basin, as posted on the SRBC Public Participation Center Web page at www.srbc.net/pubinfo/publicparticipation.htm. The public hearing will also cover the following projects:

Projects Scheduled for Action

1. Project Sponsor and Facility: Black Bear Waters, LLC (Lycoming Creek), Lewis Township, Lycoming County, Pa. Application for renewal of surface water withdrawal of up to 0.900 mgd (peak day) (Docket No. 20120303).

2. Project Sponsor and Facility: Blossburg Municipal Authority, Bloss Township, Tioga County, Pa. Application for renewal of groundwater withdrawal of up to 0.288 mgd (30-day average) from Route 15 Well (Docket No. 20120304).

3. Project Sponsor and Facility: Cabot Oil & Gas Corporation (Martins Creek), Harford Township, Susquehanna County, Pa. Application for surface water withdrawal of up to 0.500 mgd (peak day).

4. Project Sponsor and Facility: Todd and Gemma Campbell (Susquehanna River), Athens Township, Bradford County, Pa. Application for renewal of surface water withdrawal of up to 0.999 mgd (peak day) (Docket No. 20120609).

5. Project Sponsor and Facility: Elizabethtown Area Water Authority, Elizabethtown Borough, Lancaster County, Pa. Application for groundwater withdrawal of up to 0.201 mgd (30-day average) from Well 1.

6. Project Sponsor and Facility: Elizabethtown Area Water Authority, Elizabethtown Borough, Lancaster County, Pa. Application for groundwater withdrawal of up to 0.106 mgd (30-day average) from Well 3.

7. Project Sponsor and Facility: Elizabethtown Area Water Authority, Elizabethtown Borough, Lancaster County, Pa. Application for groundwater withdrawal of up to 0.130 mgd (30-day average) from Well 4.

8. Project Sponsor and Facility: Elizabethtown Area Water Authority, Mount Joy Township, Lancaster County, Pa. Application for groundwater withdrawal of up to 0.187 mgd (30-day average) from Well 8.

9. Project Sponsor and Facility: Elizabethtown Area Water Authority, Mount Joy Township, Lancaster County, Pa. Application for groundwater withdrawal of up to 0.216 mgd (30-day average) from Well 9.

10. Project Sponsor and Facility: EQT Production Company (Pine Creek), Porter Township, Lycoming County, Pa. Application for surface water withdrawal of up to 1.000 mgd (peak day).

11. Project Sponsor: Exelon Generation Company, LLC. Project Facility: Muddy Run Pumped Storage Project, Drumore and Martic Townships, Lancaster County, Pa. Application for an existing hydroelectric facility.

12. Project Sponsor and Facility: Manbel Devco I, LP, Manheim Township, Lancaster County, Pa. Application for groundwater withdrawal of up to 4.320 mgd (30-day average) from the Belmont Quarry.

13. Project Sponsor and Facility: Mount Joy Borough Authority, East Donegal Township, Lancaster County, Pa. Modification to increase withdrawal limit from Well 1 by an additional 0.073 mgd (30-day average), for a total Well 1 withdrawal limit of 1.300 mgd (30-day average) (Docket No. 20110617).

14. Project Sponsor: New Enterprise Stone & Lime Co., Inc. Project Facility: Burkholder Quarry, Earl Township, Lancaster County, Pa. Application for groundwater withdrawal of up to 0.005 mgd (30-day average) from Sump 4.

15. Project Sponsor: New Enterprise Stone & Lime Co., Inc. Project Facility: Burkholder Quarry, Earl Township, Lancaster County, Pa. Modification to increase consumptive water use by an additional 0.099 mgd (peak day), for a total consumptive water use of up to 0.249 mgd (peak day) and to add an additional new source (Sump 4) (Docket No. 20040307).

16. Project Sponsor and Facility: Renovo Energy Center LLC (West Branch Susquehanna River), Renovo Borough, Clinton County, Pa. Application for surface water withdrawal of up to 0.612 mgd (peak day).

17. Project Sponsor and Facility: Renovo Energy Center LLC, Renovo Borough, Clinton County, Pa. Application for consumptive water use of up to 0.217 mgd (peak day).

18. Project Sponsor: SUEZ Water Pennsylvania Inc. Project Facility: Newberry Operation, Newberry Township, York County, Pa. Application for groundwater withdrawal of up to 0.108 mgd (30-day average) from the Coppersmith Well.

19. Project Sponsor: SUEZ Water Pennsylvania Inc. Project Facility: Newberry Operation, Newberry Township, York County, Pa. Application for groundwater withdrawal of up to 0.200 mgd (30-day average) from Conley 1 Well.

20. Project Sponsor and Facility: Sugar Hollow Trout Park and Hatchery, Eaton Township, Wyoming County, Pa. Application for renewal of groundwater withdrawal of up to 0.864 mgd (30-day average) from Wells 1, 2, and 3 (the Hatchery Wellfield) (Docket No. 20100913).

21. Project Sponsor and Facility: Tioga Downs Racetrack, LLC, Town of Nichols, Tioga County, N.Y. Application for groundwater withdrawal of up to 0.099 mgd (30-day average) from the Racetrack Well.

22. Project Sponsor and Facility: Tioga Downs Racetrack, LLC, Town of Nichols, Tioga County, N.Y. Application for consumptive water use of up to 0.099 mgd (peak day).

Opportunity To Appear and Comment

Interested parties may appear at the hearing to offer comments to the Commission on any project or proposal listed above. The presiding officer reserves the right to limit oral statements in the interest of time and to otherwise control the course of the hearing. Rules of conduct will be posted on the Commission's Web site, www.srbc.net, prior to the hearing for review. The presiding officer reserves the right to modify or supplement such rules at the hearing. Written comments on any project listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before May 16, 2016, to be considered.

Authority: Public Law 91-575, 84 Stat. 1509 et seq., 18 CFR parts 806, 807, and 808.

Dated: March 31, 2016.
Stephanie L. Richardson,
Secretary to the Commission.

[FR Doc. 2016-07799 Filed 4-5-16; 8:45 am]

BILLING CODE 7040-01-P